DEPARTMENT OF TRANSPORTATION

Federal Aviation Administration

14 CFR Part 39

[Docket No. 2002-NM-175-AD; Amendment 39-13715; AD 2004-14-06]

RIN 2120-AA64

Airworthiness Directives; Airbus Model A310 Series Airplanes

AGENCY: Federal Aviation Administration, DOT.

ACTION: Final rule.

SUMMARY: This amendment supersedes an existing airworthiness directive (AD), applicable to certain Airbus Model A310 series airplanes, that currently requires repetitive inspections of the fuselage skin to detect corrosion or fatigue cracking around and under the chafing plates of the wing root; and corrective actions, if necessary. That AD also provides an optional terminating action for the repetitive inspections. This amendment reinstates repetitive inspections in certain areas where corrosion was detected and reworked as required by the existing AD. The actions specified by this AD are intended to detect and correct fatigue cracks and corrosion around and under the chafing plates of the wing root, which could result in reduced structural integrity of the airplane. This action is intended to address the identified unsafe condition.

DATES: Effective August 13, 2004.

The incorporation by reference of certain publications listed in the regulations is approved by the Director of the Federal Register as of August 13, 2004.

The incorporation by reference of certain other publications, as listed in the regulations, was approved previously by the Director of the Federal Register as of June 3, 1998 (63 FR 23377, April 29, 1998).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Anthony Jopling, Aerospace Engineer, International Branch, ANM-116, FAA, Transport Airplane Directorate, 1601 Lind Avenue, SW., Renton, Washington 98055-4056; telephone (425) 227-2190; fax (425) 227-1149.

SUPPLEMENTARY INFORMATION: A proposal to amend part 39 of the Federal Aviation Regulations (14 CFR part 39) by superseding AD 98-09-20, amendment 39-10501 (63 FR 23377, April 29, 1998), which is applicable to certain Airbus Model A310 series airplanes, was published in the Federal Register on December 18, 2003, (68 FR 70479). The action proposed to continue require reinstating repetitive inspections in certain areas where corrosion was detected and reworked as required by the existing AD.

Comments

Interested persons have been afforded an opportunity to participate in the making of this amendment. Due consideration has been given to the comment received from a single commenter.

Request to Reference Revised Service Information

The commenter states that Airbus has issued Revision 05 to Service Bulletin A310-53-2069, dated November 12, 2002, and requests that this revision be included in the proposed AD as an acceptable source of service information. The commenter notes that Revision 05 of the service bulletin includes a revised repair drawing and, for certain airplanes, deletes an inspection at frame 39/stringer 35.

The FAA concurs with the intent of the commenter's request to include Revision 05 of the service bulletin as an appropriate source of service information. However, upon review of Revisions 04 and 05 of the service bulletin, it appears that the repair drawing was revised in Revision 04, and that the manufacturer did not remove the revision marks when Revision 05 of the service bulletin was issued. We have determined that Revision 05 of Airbus Service Bulletin A310-53-2069 adds no new requirements. We have revised paragraphs (a), (b), and (d) of this final rule to reference Airbus Service Bulletin A310-53-2069, Revision 05, dated November 12, 2002; and Revision 04, dated November 8, 2000; as additional appropriate sources of service information.

Conclusion

After careful review of the available data, including the comment noted above, we have determined that air safety and the public interest require the adoption of the rule with the change previously described. We have determined that this change will neither increase the economic burden on any operator nor increase the scope of the AD.

Cost Impact

There are approximately 46 airplanes of U.S. registry that will be affected by this AD. This AD adds no new requirements. It requires continuation of repetitive inspections for airplanes where corrosion was detected and reworked at frame 39, stringer 35. The current costs associated with AD 98-09-20 are reiterated in their entirety as follows for the convenience of affected operators:

The actions that are currently required by AD 98-09-20 take approximately 68 work hours per airplane to accomplish, at an average labor rate of $65 per work hour. Based on these figures, the cost impact of the previously required actions on U.S. operators is estimated to be $4,420 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10501 (63 FR 23377, April 29, 1998), and by adding a new airworthiness directive (AD), amendment 39-13715, to read as follows:

2004-14-06 Airbus: Amendment 39-13715. Docket 2002-NM-175-AD. Supersedes AD 98-09-20, Amendment 39-10501.

Applicability: Model A310 series airplanes on which Airbus Modifications 8888 and 8889 have not been accomplished, certificated in any category.

Compliance: Required as indicated, unless accomplished previously.

To detect and correct fatigue cracking and corrosion around and under chafing plates of the wing root between fuselage frame 36 and frame 39, which could result in reduced structural integrity of the airplane, accomplish the following:

Restatement of Requirements of AD 98-09-20

Repetitive Inspections and Corrective Actions

(a) Except as provided by paragraph (b) of this AD: Within 4 years since date of manufacture, or within 12 months after June 3, 1998 (the effective date of AD 98-09-20, amendment 39-10501), whichever occurs later, perform an inspection to detect discrepancies around and under the chafing plates of the wing root, in accordance with the Accomplishment Instructions of Airbus Service Bulletin A310-53-2069, Revision 05, dated November 12, 2002; Revision 04, dated November 8, 2000; Revision 03, dated October 28, 1997; Revision 2, dated September 23, 1996; or Revision 1, dated September 19, 1995. If any discrepancy is found, prior to further flight, accomplish follow-on corrective actions (i.e., removal of corrosion, corrosion protection, high frequency eddy current inspection, x-ray inspection), as applicable, in accordance with the applicable service bulletin. Repeat the inspections thereafter at the intervals specified in the applicable service bulletin. After the effective date of this AD, repeat the inspections thereafter at the intervals specified in Revision 04 or Revision 05 of the service bulletin.

(b) If any discrepancy is found during any inspection required by paragraph (a) of this AD, and Airbus Service Bulletin A310-53-2069, Revision 05, dated November 12, 2002; Revision 04, dated November 8, 2000; Revision 03, dated October 28, 1997; Revision 2, dated September 23, 1996; or Revision 1, dated September 19, 1995; as applicable; specifies to contact Airbus for appropriate action: Prior to further flight, repair in accordance with a method approved by the Manager, International Branch, ANM-116, FAA, Transport Airplane Directorate. Where differences in the compliance times or corrective actions exist between the service bulletin and this AD, the AD prevails.

New Requirements of This AD

Optional Terminating Action

(c) Except as provided by paragraph (d) of this AD: Accomplishment of the replacement of the stainless steel chafing plates with new chafing plates made of aluminum alloy, in accordance with Airbus Service Bulletin A310-53-2070, Revision 2, dated November 8, 2000; Revision 1, dated September 23, 1996; or the original issue, dated October 3, 1994; constitutes terminating action for the repetitive inspections required by paragraph (a) of this AD.

Continuation of Repetitive Inspections

(d) Within 30 days after the effective date of this AD: Do a review of the airplane maintenance records to determine if any corrosion was detected and reworked on the left and/or right side of frame 39, stringer 35, during the accomplishment of any corrective action or repair specified in paragraphs (a) or (b) of this AD. If any corrective action or repair has been accomplished in this area, perform an inspection for fatigue cracking of frame 39, stringer 35, in accordance with the Accomplishment Instructions of Airbus Service Bulletin A310-53-2069, Revision 05, dated November 12, 2002; or Revision 04, dated November 8, 2000. Do the initial inspection at the threshold specified in Figure 1 of the service bulletin, or within 30 days after the effective date of this AD, whichever is later. Repeat the inspection thereafter at the intervals specified in Figure 1 of the service bulletin. If any discrepancy is found, prior to further flight, accomplish the applicable follow-on corrective actions, in accordance with the Accomplishment Instructions of the service bulletin.

Submission of Information Not Required

(e) Although the service bulletins referenced in this AD specify to submit information to the manufacturer, this AD does not include such a requirement.

Alternative Methods of Compliance

(f) In accordance with 14 CFR 39.19, the Manager, International Branch, ANM-116, FAA, Transport Airplane Directorate, is authorized to approve alternative methods of compliance for this AD.

Incorporation by Reference

(g) Unless otherwise specified in this AD, the actions shall be done in accordance with the Airbus service bulletins specified in Table 1 of this AD, as applicable.

Table 1.—Airbus Service Bulletins Incorporated by Reference
Service bulletin— | Revision— | Date—
A310-53-2069 | 1 | September 19, 1995.
A310-53-2069 | 2 | September 23, 1996.
A310-53-2069 | 03 | October 28, 1997.
A310-53-2069 | 04 | November 8, 2000.
A310-53-2069 | 05 | November 12, 2002.

(1) The incorporation by reference of the Airbus Service Bulletins in Table 2 of this AD, which contain the following effective pages, are approved by the Director of the Federal Register in accordance with 5 U.S.C. 552(a) and 1 CFR part 51:

Table 2.—New Airbus Service Bulletins Incorporated by Reference
Service bulletin, date, and revision level— | Page no.— | Revision level shown on page— | Date shown on page—
A310-53-2069, Revision 2, September 23, 1996 | 1-6, 9, 10 | 2 | September 23, 1996.
| 7, 8, 11-59 | 1 | September 19, 1995.
A310-53-2069, Revision 03, October 28, 1997 | 1, 7, 15, 16, 26, 28, 29-34, 43-61 | 03 | October 28, 1997.
| 2-6, 9, 10 | 2 | September 23, 1996.
| 8, 11-14, 17-25, 27, 35-42 | 1 | September 19, 1995.
A310-53-2069, Revision 04, 2000 November 8, 2000 | 1-57 | 04 | November 8, 2000.
A310-53-2069, Revision 05, November 12, 2002 | 1-12, 20, 21, 23 | 05 | November 12, 2002.
| 13-19, 22, 24-57 | 04 | November 8, 2000.

(2) The incorporation by reference of Airbus Service Bulletin A310-53-2069, Revision 1, dated September 19, 1995, was approved previously by the Director of the Federal Register as of June 3, 1998 (63 FR 23377, April 29, 1998).

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in French airworthiness directive 2000-514-326(B) R1, dated May 15, 2002.

Effective Date

(h) This amendment becomes effective on August 13, 2004.

Issued in Renton, Washington, on June 29, 2004.
Kalene C. Yanamura,
Acting Manager, Transport Airplane Directorate, Aircraft Certification Service.

[FR Doc. 04-15373 Filed 7-8-04; 8:45 am]

BILLING CODE 4910-13-P